ENVIRONMENTAL PROTECTION AGENCY

[EPA-HQ-OW-2006-0394; FRL 9905-75-OEI]

Information Collection Request Submitted to OMB for Review and Approval; Comment Request; Approval of State Coastal Nonpoint Pollution Control Programs

AGENCY: Environmental Protection Agency (EPA).

ACTION: Notice.

SUMMARY: The Environmental Protection Agency has submitted an information collection request (ICR), “Approval of State Coastal Nonpoint Pollution Control Programs (CZARA Section 6217)” to the Office of Management and Budget (OMB) for review and approval in accordance with the Paperwork Reduction Act (44 U.S.C. 3501 et seq.). This is a proposed extension of the ICR, which is currently approved through January 31, 2014. Public comments were previously requested via the Federal Register (78 FR 69664) on November 20, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 3, 2014.

ADDRESSES: Submit your comments, referencing Docket ID Number EPA-HQ-OW-2006-0394, to (1) EPA online using www.regulations.gov (our preferred method), by email to OW-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Don Waye, Assessment and Watershed Protection Division, Office of Wetlands Oceans and Watersheds, Mail Code 4503-T, Environmental Protection Agency, 1200 Pennsylvania Ave. NW., Washington, DC 20460; telephone number: (202) 566-1170; fax number: (202) 566-1333; email address: waye.don@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

EPA ICR No.: 1569.08

OMB Control No.: 2040-0153

Abstract: Under the provisions of national Program Development and Approval Guidance implementing section 6217 of the Coastal Zone Act Reauthorization Amendments of 1990 (CZARA) which was jointly developed and published by EPA and the National Oceanic and Atmospheric Administration (NOAA), 29 coastal States and 5 coastal Territories with federally approved Coastal Zone Management Programs have developed and submitted to EPA and NOAA Coastal Nonpoint Pollution Programs. Another State (Illinois) is developing its program for submittal to EPA and NOAA in early 2014. EPA and NOAA have fully approved 17 States and 5 Territories, and conditionally approved 11 States. Another State that was conditionally approved (Alaska) ceased its participation in this program in 2011. States and Territories with conditional approvals are required to submit additional information in order to obtain final program approval. CZARA section 6217 requires States and Territories to obtain final approval of their Coastal Nonpoint Pollution Programs in order to retain their full share of funding available to them under section 319 of the Clean Water Act and section 306 of the Coastal Zone Management Act.

Form Numbers: None.

Respondents/affected entities: Entities affected by this action are 11 coastal States with conditionally approved Coastal Nonpoint Pollution Control Programs and 1 coastal State that will submit its program for federal approval in 2014.

Respondent's obligation to respond: Required to obtain or retain benefits.

Estimated number of respondents: 12 States (total).

Frequency of response: On occasion.

Total estimated burden: 1,500 hours (per year). Burden is defined at 5 CFR 1320.03(b).

Total estimated cost: $55,500 (per year), includes $0 annualized capital or operation & maintenance costs.

Changes in the Estimates: There is a decrease of 125 hours in the total estimated respondent burden compared with the ICR currently approved by OMB. This decrease is the result of progress that States which are not yet unconditionally approved have made that have resulted in the reduction in the number of conditions imposed on them by EPA and NOAA, offset by the addition of a new State coastal nonpoint program (Illinois), as well as the sunsetting of one State program in 2011 (Alaska).

Richard T. Westlund,
Acting Director, Collection Strategies Division.

[FR Doc. 2014-01792 Filed 1-29-14; 8:45 am]

BILLING CODE 6560-50-P